DEPARTMENT OF THE TREASURY

Office of Foreign Assets Control

Sanctions Actions Pursuant to Executive Order 13581

AGENCY: Office of Foreign Assets Control, Treasury.

ACTION: Notice.

SUMMARY: The U.S. Department of the Treasury's Office of Foreign Assets Control (OFAC) is publishing the names of persons whose property and interests in property have been unblocked pursuant to Executive Order 13581 of July 24, 2011, “Blocking Property of Transnational Criminal Organizations.”

DATES: OFAC's actions described in this notice were effective on August 22, 2017.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The list of Specially Designated Nationals and Blocked Persons (SDN List) and additional information concerning OFAC sanctions programs are available from OFAC's Web site at http://www.treasury.gov/ofac.

Notice of OFAC Actions

On August 22, 2017, OFAC removed from the SDN List the persons listed below, whose property and interests in property were blocked pursuant to Executive Order 13581.

Individuals

1. BOIVIN, Marie (a.k.a. BOIVIN, Marie Claude), 13 Beechgrove Gardens, Stittsville, Ottawa, Ontario K25 1W5, Canada; 2571 Carling Avenue, Ottawa, Ontario K2B 7H7, Canada; DOB 03 Jul 1975 (individual) [TCO] (Linked To: ACCU-RATE CORPORATION; Linked To: PACNET GROUP).

2. FERLOW, Ruth (a.k.a. FERLOW, Ruth Hilda Rose), D11 Glyme Court, Oxford Office Village, Langford Lane, Kidlington, Oxon OX5 1LQ, United Kingdom; 4910 Keith Road, Vancouver, BC V7W 2NI, Canada; 4th Floor, 595 Howe Street, Vancouver, BC V6C 2TF, Canada; DOB 05 Jan 1967; nationality Canada (individual) [TCO] (Linked To: PACNET SERVICES LTD.; Linked To: CHEXX INC.; Linked To: INDIAN RIVER (UK) LTD.; Linked To: PACNET GROUP).

Dated: August 22, 2017.
Andrea Gacki,
Acting Director, Office of Foreign Assets Control.

[FR Doc. 2017-18252 Filed 8-28-17; 8:45 am]

BILLING CODE 4810-AL-P